DEPARTMENT OF COMMERCE

International Trade Administration

[A-570-803]

Heavy Forged Hand Tools, Finished or Unfinished, With or Without Handles, from the People's Republic of China: Notice of Extension of Time Limit for Preliminary Results of Antidumping Duty Administrative Review

AGENCY: Import Administration, International Trade Administration, Department of Commerce.

EFFECTIVE DATE: October 19, 2006.

FOR FURTHER INFORMATION CONTACT: Mark Flessner or Robert James, AD/CVD Operations, Office 7, Import Administration, International Trade Administration, U.S. Department of Commerce, 14th Street and Constitution Avenue, NW, Washington, DC 20230; telephone: (202) 482-6312 and (202) 482-0649, respectively.

Background

On February 19, 1991, the Department of Commerce (the Department) published in the Federal Register four antidumping duty orders on heavy forged hand tools, finished or unfinished, with or without handles (heavy forged hand tools) from the People's Republic of China (PRC). See Antidumping Duty Orders: Heavy Forged Hand Tools, Finished or Unfinished, With or Without Handles From the People's Republic of China, 56 FR 6622 (February 19, 1991). Imports covered by these orders comprise the following classes or kinds of merchandise: (1) Hammers and sledges with heads over 1.5 kg (3.33 pounds) (hammers/sledges); (2) bars over 18 inches in length, track tools and wedges (bars/wedges); (3) picks/mattocks; and (4) axes/adzes.

On February 1, 2006, the Department published in the Federal Register (71 FR 5239) a notice of “Opportunity to Request an Administrative Review” of the antidumping duty order on heavy forged hand tools from the PRC for the period of review (POR) covering February 1, 2005, through January 31, 2006. On February 24, 2006, respondents Shandong Machinery Import and Export Corporation and Tianjin Machinery Import and Export Corporation requested administrative reviews of their companies for this POR. On February 27, 2006, respondents Shanghai Machinery Import & Export Corp., Shandong Huarong Machinery Co., and Shandong Jinma Industrial Group Co., Ltd. requested administrative reviews of their companies for this POR. On February 28, 2006, petitioner Council Tool Company requested administrative reviews of Shandong Huarong Machinery Co., Ltd., Shandong Machinery Import and Export Corporation, Tianjin Machinery Import and Export Corporation, Shanghai Xinke Trading Company, Iron Bull Industrial Co., Ltd., and Jafsam Metal Products for this POR. Also on February 28, 2006, petitioner Ames True Temper requested administrative reviews of Shandong Huarong Machinery Co., Ltd., Shandong Machinery Import and Export Corporation, Tianjin Machinery Import and Export Corporation, Iron Bull Industrial Co., Ltd., and Truper Herramientas S.A. de C.V. for this POR.

On April 5, 2006, the Department initiated an administrative review of the antidumping duty orders listed below on heavy forged hand tools from the PRC covering the POR February 1, 2005, through January 31, 2006, with respect to the listed companies:

Axes/Adzes A-570-803

Iron Bull Industrial Co., Ltd.

Jafsam Metal Products

Shanghai Machinery Import & Export Corp.

Shanghai Xinke Trading Company

Shandong Huarong Machinery Co., Ltd.

Shandong Jinma Industrial Group Co., Ltd.

Shandong Machinery Import and Export Corporation

Tianjin Machinery Import and Export Corporation

Truper Herramientas S.A. de C.V.

Bars/Wedges A-570-803

Iron Bull Industrial Co., Ltd.

Jafsam Metal Products.

Shanghai Machinery Import & Export Corp.

Shanghai Xinke Trading Company

Shandong Huarong Machinery Co., Ltd.

Shandong Jinma Industrial Group Co., Ltd.

Shandong Machinery Import and Export Corporation

Tianjin Machinery Import and Export Corporation

Truper Herramientas S.A. de C.V.

Hammers/Sledges A-570-803

Iron Bull Industrial Co., Ltd.

Jafsam Metal Products

Shanghai Machinery Import & Export Corp.

Shanghai Xinke Trading Company

Shandong Huarong Machinery Co., Ltd.

Shandong Jinma Industrial Group Co., Ltd.

Shandong Machinery Import and Export Corporation

Tianjin Machinery Import and Export Corporation

Picks/Mattocks A-570-803

Iron Bull Industrial Co., Ltd.

Jafsam Metal Products

Shanghai Machinery Import & Export Corp.

Shanghai Xinke Trading Company

Shandong Huarong Machinery Co., Ltd.

Shandong Jinma Industrial Group Co., Ltd.

Shandong Machinery Import and Export Corporation

See Initiation of Antidumping and Countervailing Duty Administrative Reviews and Deferral of Administrative Reviews, 71 FR 17077 (April 5, 2006).

On September 11, 2006, in accordance with Section 351.213(d)(1) of the Department's regulations and upon the requests of the pertinent parties, the Department rescinded the administrative reviews as follows:

•With regard to Shandong Jinma Industrial Group Co., Ltd., in all classes or kinds.

•With regard to Shanghai Machinery Import & Export Corp., in all classes or kinds.

•With regard to Truper Herramientas S.A. de C.V., in all classes or kinds.

•With regard to Tianjin Machinery Import and Export Corporation, in the classes or kinds axes/adzes, hammers/sledges, and bars/wedges.

•With regard to Shandong Huarong Machinery Co., in the classes or kinds axes/adzes and bars/wedges.

•With regard to Iron Bull Industrial Co., Ltd., in the class or kind bars/wedges.

See Administrative Review (02/01/2005 01/31/2006) of Heavy Forged Hand Tools, Finished or Unfinished, With or Without Handles, from the People's Republic of China: Notice of Rescission of Antidumping Duty Administrative Reviews 71 FR 53403 (September 11, 2006).

Extension of Time Limit for Preliminary Results

Pursuant to section 751(a)(3)(A) of the Tariff Act of 1930, as amended (the Tariff Act), the deadlines for preliminary and final results of this administrative review are October 31, 2005, and February 28, 2006, respectively. The Department, however, may extend the deadline for completion of the preliminary results of a review if it determines it is not practicable to complete the preliminary results within the statutory time limit. See section 751(a)(3)(A) of the Tariff Act and 19 C.F.R. 351.213(h)(2). In this case, the Department has determined it is not practicable to complete this review within the statutory time limit because of significant issues that require additional time to evaluate. These include outstanding questions concerning the questionnaire responses that require additional supplemental questionnaires.

Therefore, the Department is extending the time limit for completion of the preliminary results for heavy forged hand tools from the People's Republic of China until February 28, 2007, in accordance with section 751(a)(3)(A) of the Tariff Act. The deadline for the final results of this review will be 120 days after publication of the preliminary results in the Federal Register. See section 751(a)(3)(A) of the Tariff Act and 19 C.F.R. 351.213(h)(2).

This notice is issued and published in accordance with sections 751(a)(3)(A), 751(a)(1), and 777(i)(l) of the Tariff Act and 19 CFR 351.213(d)(4).

Dated: October 10, 2006.
Stephen J. Claeys,
Deputy Assistant Secretary for Import Administration.

[FR Doc. E6-17380 Filed 10-18-06; 8:45 am]

BILLING CODE 3510-DS-S